INTERNATIONAL TRADE COMMISSION

[Investigation No. 731-TA-752 (Review)]

Crawfish Tail Meat From China

Determination

On the basis of the record ¹ developed in the subject five-year review, the United States International Trade Commission (Commission) determines, pursuant to section 751(c) of the Tariff Act of 1930 (19 U.S.C. 1675(c)) (the Act), that revocation of the antidumping duty order on crawfish tail meat from China would be likely to lead to continuation or recurrence of material injury to an industry in the United States within a reasonably foreseeable time.

¹ The record is defined in sec. 207.2(f) of the Commission's Rules of Practice and Procedure (19 CFR 207.2(f)).

Background

The Commission instituted this review on August 2, 2002 (67 FR 50459) and determined on November 4, 2002, that it would conduct a full review (67 FR 6957, November 18, 2002). Notice of the scheduling of the Commission's review and of a public hearing to be held in connection therewith was given by posting copies of the notice in the Office of the Secretary, U.S. International Trade Commission, Washington, DC, and by publishing the notice in the Federal Register on January 24, 2003 (68 FR 5046). The hearing was held in Washington, DC, on June 3, 2003, and all persons who requested the opportunity were permitted to appear in person or by counsel.

The Commission transmitted its determination in this review to the Secretary of Commerce on July 28, 2003. The views of the Commission are contained in USITC Publication 3614 (July 2003), entitled Crawfish Tail Meat from China: Investigation No. 731-TA-752 (Review).

By order of the Commission.
Issued: July 28, 2003.
Marilyn R. Abbott,
Secretary to the Commission.

[FR Doc. 03-19610 Filed 7-31-03; 8:45 am]

BILLING CODE 7020-02-P